ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register changes to the HAVA State plans previously submitted by Massachusetts, New York, South Carolina, and Washington.

DATES: This notice is effective upon publication in the Federal Register.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. This is the first revision to the State plans for Massachusetts, New York, and Washington and the forth revision to South Carolina's plan.

The revised State plans from Massachusetts, South Carolina, and Washington provide information on program accomplishments and address changes in the respective budgets to account for the use of Fiscal Year 2008 and 2009 requirements payments. The revised State plan from New York presents an updated framework for becoming compliant with Title III of HAVA and also updates the budget to account for full funding of requirements payments. In accordance with HAVA section 254(a)(12), all the State plans submitted for publication provide information on how the respective State succeeded in carrying out its previous State plan. The States all confirm that these changes to their respective State plans were developed and submitted to public comment in accordance with HAVA sections 254(a)(11), 255, and 256.

Upon the expiration of thirty days from July 17, 2009, the State is eligible to implement the changes addressed in the plan that is published herein, in accordance with HAVA section 254(a)(11)(C).

EAC wishes to acknowledge the effort that went into revising this State plan and encourages further public comment, in writing, to the State election officials listed below.

Chief State Election Officials

The Honorable William Francis Galvin, Secretary of the Commonwealth of Massachusetts, One Ashburton Place, Room 1611, Boston, Massachusetts, Phone: (617) 727-7030, Fax: (617) 742-4528.

Messers. Stanley L. Zalen and Todd D. Valentine, Co-Executive Directors, New York State Board of Elections, 40 Steuben Street, Albany, New York 12207-2108, Phone: (518) 474-6336, Fax: (518) 474-1008.

Ms. Marci Andino, Executive Director, South Carolina State Election Commission, P.O. Box 5987, Columbia, South Carolina 29250, Phone: (803) 734-9060, Fax: (803) 734-9366.

Honorable Sam Reed, Secretary of State, Legislative Building, P.O. Box 40220, Olympia, Washington 98504-0220, Phone: (360) 902-4151, Fax: (360) 664-4619.

Thank you for your interest in improving the voting process in America.

Dated: July 7, 2009.
Thomas R. Wilkey,
Executive Director, Election Assistance Commission.

BILLING CODE 6820-KF-P

[FR Doc. E9-16611 Filed 7-16-09; 8:45 am]

BILLING CODE 6820-KF-C